DEPARTMENT OF LABOR

Pension and Welfare Benefits Administration

[Prohibited Transaction Exemption 2002-17; Application No. D-10961]

Grant of Individual Exemption for State Farm Mutual Automobile Insurance Company and State Farm VP Management Corp.

AGENCY: Pension and Welfare Benefits Administration, U.S. Department of Labor (the Department).

ACTION: Notice of technical correction.

On March 22, 2002, the Department published, in the Federal Register (67 FR 13366), a notice of individual exemption for State Farm Mutual Automobile Insurance Company (State Farm) and for State Farm VP Management Corp. (SFVPMC) which permits the purchase or redemption of an institutional class of shares of State Farm mutual funds, as defined in the exemption, by certain pension plans, which are established by:

(a) Independent contractor agents (the Agents) of State Farm or its affiliates, who are also registered representatives of SFVPMC, for themselves and their employees, and

(b) The family members of such Agents, as defined in the exemption, provided that certain conditions are satisfied.

The Department wishes to correct certain typographical errors that appeared in the exemption. In this regard, in Section I captioned, “Transactions,” the citation, “406(a)(1)(A) through (d),” on page 13366, column 2, line 2 should be replaced by the citation, “406(a)(1)(A) through (D),” and, the citation, “4974 of the Code,” on page 13366, column 2, line 4 should be amended to read, “4975 of the Code.” In Section II captioned, “Conditions,” the following amendments should be made:

(1) in section II(g) the word, “prevention,” on page 13366, column 3, line 3 should be replaced by the word, “provision';

(2) in section II(j)(1)(D), the word, “member,” on page 13367, column 1, line 2 should be capitalized;

(3) in section II(j)(2), the word, “asset,” on page 13367, column 1, line 6 should be plural; and

(4) in section II(o), the word, “plan,” on page 13368, column 1, line 1 should be capitalized.

Accordingly, the Department hereby corrects the typographical errors set forth above.

FOR FURTHER INFORMATION CONTACT: Angelena C. Le Blanc of the Department at (202) 693-8551. (This is not a toll-free number.)

Signed at Washington, DC, this 25th day of March, 2002.
Ivan L. Strasfeld,
Director of Exemption Determinations, Pension and Welfare Benefits Administration, U.S. Department of Labor.

[FR Doc. 02-7517 Filed 3-27-02; 8:45 am]

BILLING CODE 4510-29-P